Proclamation 8608 of November 30, 2010

Helsinki Human Rights Day, 2010

By the President of the United States of America

A Proclamation

This year marks the 35th anniversary of the Helsinki Final Act, a seminal document tying lasting security among states with respect for human rights and fundamental freedoms within states. With the signing of the Act on August 1, 1975, the United States, Canada, the Soviet Union, and the countries of a divided Europe solemnly pledged to work together to realize comprehensive security across the European continent. This occasion also spurred courageous human rights activists in Eastern Europe to form citizens’ groups to press for the implementation of commitments their governments had made, launching the Helsinki movement.

The guiding principles set forth 35 years ago in the Helsinki Final Act, now institutionalized in the Organization for Security and Cooperation in Europe (OSCE), still serve as a beacon to all who strive for freedom and peace across the Euro-Atlantic region. On this day, we reaffirm our sincere belief that security is indivisible, and must be rooted in confidence, cooperation, transparency, and respect for human rights and fundamental freedoms. We also recommit to calling on fellow participating states to reexamine their compliance with their OSCE commitments.

The Helsinki Final Act, with its affirmation of fundamental human rights, inspired many who struggled against repressive regimes and for human dignity. Today, a new generation of brave women and men work tirelessly—often risking their lives—to realize those same rights. We stand with them and with all who advocate for the rights of their fellow citizens and for the betterment of their societies.

Together, we will ensure the United States continues to serve as an example in both word and deed to the Helsinki principles. As President Gerald Ford said to his fellow signatories at the signing of the Helsinki Final Act, history will judge us “not by the promises we make, but by the promises we keep.”

NOW, THEREFORE, I, BARACK OBAMA, President of the United States of America, by virtue of the authority vested in me by the Constitution and the laws of the United States, do hereby proclaim December 1, 2010, as Helsinki Human Rights Day. I call upon all the people of the United States to observe this day with appropriate ceremonies and activities.

IN WITNESS WHEREOF, I have hereunto set my hand this thirtieth day of November, in the year of our Lord two thousand ten, and of the Independence of the United States of America the two hundred and thirty-fifth.

[FR Doc. 2010-30584

Filed 12-2-10; 11:15 am]

Billing code 3195-W1-P